DEPARTMENT OF COMMERCE

National Oceanic and Atmospheric Administration

RIN 0648-XG104

Endangered Species; File No. 21233

AGENCY: National Marine Fisheries Service (NMFS), National Oceanic and Atmospheric Administration (NOAA), Commerce.

ACTION: Notice; receipt of application.

SUMMARY: Notice is hereby given that the NMFS Southeast Fisheries Center (SEFSC), 75 Virginia Beach Drive, Miami, FL 33149 (Responsible Party: Theophilus Brainerd, Ph.D.), has applied in due form for a permit to take loggerhead (Caretta caretta), Kemp's ridley (Lepidochelys kempii), green (Chelonia mydas), leatherback (Dermochelys coriacea), hawksbill (Eretmochelys imbricata), olive ridley (Lepidochelys olivacea), and unidentified sea turtles for purposes of scientific research.

DATES: Written, telefaxed, or email comments must be received on or before April 30, 2018.

ADDRESSES: The application and related documents are available for review by selecting “Records Open for Public Comment” from the “Features” box on the Applications and Permits for Protected Species (APPS) home page, https://apps.nmfs.noaa.gov, and then selecting File No. 21233 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The SEFSC requests a ten-year permit to study sea turtles in the Atlantic Ocean, Gulf of Mexico, and Caribbean Sea including international waters. The objectives of the research are to assess sea turtle populations for anthropogenic threats, abundance estimates, and population structure and mixing rates. Animals for study would be directly captured by hand, hoop net, pound net, seine, cast net, tangle net, or trawl or obtained for study from another legal source such as bycatch in a commercial fishery. Researchers would be authorized to examine, mark, image, collect morphometrics, collect a suite of biological samples, and attach transmitters to live sea turtles before release. A subset of these animals may also undergo hearing trials or laparoscopy and internal tissue sampling when transported and temporarily held in a facility before release. The SEFSC requests a small number of unintentional mortalities, and collection of these carcasses, for each species that may result from capture activities. In addition, live animals may be harassed during vessel and aerial surveys for species counts and observation.

Dated: March 26, 2018.
Julia Harrison,
Chief, Permits and Conservation Division, Office of Protected Resources, National Marine Fisheries Service.

[FR Doc. 2018-06376 Filed 3-28-18; 8:45 am]

BILLING CODE 3510-22-P